DEPARTMENT OF ENERGY

Federal Energy Regulatory Commission

[Docket No. AD09-10-000]

National Action Plan on Demand Response; Notice Announcing Agenda for the November 19-20, 2009 Technical Conference

November 12, 2009.

Section 529 of the Energy Independence and Security Act of 2007 (EISA) ¹ directed the Commission to develop a National Action Plan. On October 28, 2009, the Commission issued a notice (October 28 Notice) scheduling a staff technical conference to elicit further input from interested stakeholders on the possible elements of the National Action Plan on Demand Response (National Action Plan) as discussed in the Discussion Draft on Possible Elements of a National Action Plan on Demand Response (Discussion Draft). Commission Staff will draw on the comments received and the discussion at the technical conference to prepare a draft of the National Action Plan.

¹ Public Law 110-140, § 529, 121 Stat. 1492, 1664 (to be codified at National Energy Conservation Policy Act, 42 U.S.C. 8241-8287d, 8279).

Attached is the agenda for the November 19-20, 2009 technical conference. The sessions will be held in the Commission Meeting Room and other conference rooms at the Federal Energy Regulatory Commission, 888 First Street, NE., Washington, DC 20426. Please note that the conference will begin at 1 p.m. on Thursday, November 19.

Panelists in the afternoon session on November 19 will discuss the overall approach to and scope of the National Action Plan, as proposed in the Discussion Draft, followed by a closing plenary session. The morning breakout sessions on November 20 will focus on each of the three statutory objectives set out in EISA and the possible activities identified in the Discussion Draft. The technical conference represents one of the means for stakeholders to provide input on the National Action Plan. Those interested will also have an opportunity to submit comments on the Discussion Draft and the technical conferences.

The November 19 panel sessions and the November 20 plenary session of the conference will be transcribed. Transcripts of the conference will be immediately available for a fee from Ace-Federal Reporters, Inc. (202-347-3700 or 1-800-336-6646). A free Web cast of the November 19 panel sessions and the November 20 closing plenary session will be available. Anyone with Internet access interested in viewing this conference can do so by navigating to http://www.ferc.gov's Calendar of Events and locating the appropriate event in the Calendar. The events will contain a link to the applicable Web cast option. The Capitol Connection provides technical support for the Web casts and offers the option of listening to the conferences via phone-bridge for a fee. If you have any questions, visit http://www.CapitolConnection.org or call 703-993-3100. The morning breakout sessions on November 20 will not be Web cast or transcribed, but they are open to everyone and we encourage all to attend. During the breakouts, Commission staff anticipates detailed discussion on the elements described in the Discussion Draft.

Commission conferences are accessible under section 508 of the Rehabilitation Act of 1973. For accessibility accommodations, please send an e-mail to accessibility@ferc.gov or call toll free (866) 208-3372 (voice) or (202) 208-1659 (TTY), or send a FAX to (202) 208-2106 with the required accommodations.

Kimberly D. Bose,
Secretary.

[FR Doc. E9-27736 Filed 11-18-09; 8:45 am]

BILLING CODE 6717-01-P